DEPARTMENT OF COMMERCE

International Trade Administration

Emory University; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW, Washington, DC.

Docket Number: 01-026. Applicant: Emory University, Atlanta, GA 30322. Instrument: High Speed CCD Camera System Set, Model MiCAM 001. Manufacturer: SciMedia Ltd., Japan. Intended Use: See notice at 67 FR 8938, February 27, 2002.

Comments: None received. Decision: Approved. No instrument of equivalent scientific value to the foreign instrument, for such purposes as it is intended to be used, is being manufactured in the United States. Reasons: The foreign instrument incorporates a digital camera with a sophisticated software package specifically designed and integrated to monitor neuronal activities. The National Institutes of Health advises in its memorandum of December 18, 2001 that (1) this capability is pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-8709 Filed 4-9-02; 8:45 am]

BILLING CODE 3510-DS-P